DEPARTMENT OF TRANSPORTATION

Federal Aviation Administration

14 CFR Part 71

[Docket No. FAA-2006-25069; Airspace Docket No. 06-AWP-9]

Proposed Modification of Class E Airspace; Honolulu International Airport, HI; Correction

AGENCY: Federal Aviation Administration (FAA), DOT.

ACTION: Notice of proposed rulemaking; correction.

SUMMARY: This action corrects an error in the airspace description of the Notice of Proposed Rulemaking that was published in the Federal Register on July 12, 2006 (71 FR 39247), Airspace Docket No. 06-AWP-9.

DATES: Comments must be received by September 18, 2006.

FOR FURTHER INFORMATION CONTACT: Francie Hope, Airspace Specialist, Western Service Area, AWP-520, Western-Pacific Region, Federal Aviation Administration, 15000 Aviation Boulevard, Lawndale, California 90261, telephone (310) 725-6502.

SUPPLEMENTARY INFORMATION:

History

Federal Register Document 06-6143, Airspace Docket No. 06-AWP-9, published on July 12, 2006 (71 FR 39247), modified the description of the Class E airspace area at Honolulu International Airport, HI. An error was discovered in the airspace description for the Honolulu International Airport, HI. Class E airspace area. This action corrects that error.

Correction to Notice of Proposed Rulemaking

Accordingly, pursuant to the authority delegated to me, the airspace description for the Class E airspace area at Honolulu International Airport, HI, as published in the Federal Register on July 12, 2006 (71 FR 39247), Federal Register Document 06-6143; page 39248, column 1), is corrected as follows:

§ 71.1 [Corrected]

* * * * *

AWP HI E5 Honolulu International Airport, HI [Corrected]

That airspace extending upward from 700 feet above the surface south and southeast of Honolulu International Airport beginning at Lat. 21 20′19″ N., long. 157 49′00″ W., thence southeast to lat. 21 16′31.15″ N., long. 157 45′11.19″ W., thence east along the shoreline to where the shoreline intercepts the Honolulu VORTAC 15-mile radius, then clockwise along the 15-mile radius of the Honolulu VORTAC to intercept the Honolulu VORTAC 241 radial, then northeast bound along the Honolulu VORTAC 241 radial to intercept the 4.3-mile radius south of Kalaeloa John Rogers Field, then counterclockwise along the arc of the 4.3-mile radius of Kalaeloa John Rogers Field, to and counterclockwise along the arc of a 5-mile radius of the Honolulu VORTAC to the Honolulu VORTAC 106° radial, then westbound along the Honolulu 106° radial to the 4-mile radius of the Honolulu VORTAC, then counterclockwise along the 4-mile radius to intercept the Honolulu VORTAC 071° radial, thence to the point of beginning and that airspace beginning at lat. 21 10′25″ N., long. 158 11′22″ W.; to lat. 21 16′05″ N., long. 158 14′35″ W.; to lat. 21 16′30″ N., long 158 13′46″ W.; to lat. 21 16′50″ N., long. 158 00′00″ W., to the point of beginning.

* * * * *

Dated: Issued in Los Angeles, California, on July 21, 2006.
Leonard A. Mobley,
Acting Area Director, Western Terminal Operations.

[FR Doc. 06-6634 Filed 8-1-06; 8:45 am]

BILLING CODE 4910-13-M